DEPARTMENT OF THE INTERIOR

National Park Service

National Register of Historic Places; Notification of Pending Nominations and Related Actions

Nominations for the following properties being considered for listing or related actions in the National Register were received by the National Park Service before September 13, 2008. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St. NW., 8th floor, Washington, DC 20005; or by fax, 202-371-6447. Written or faxed comments should be submitted by October 14, 2008.

J. Paul Loether,
Chief, National Register of Historic Places/National Historic Landmarks Program.

ARKANSAS

Cleburne County

Rector House, 603 West Quitman St., Heber Springs, 08001006

Johnson County

Hill, Taylor, Hotel, 409 Alabama St., Coal Hill, 08001007

COLORADO

La Plata County

Denver and Rio Grande Western Railroad Locomotive No. 315, 479 Main Ave., Durango, 08001008

Rio Grande County

Spruce Lodge, 29431 W. U.S. Hwy. 160, South Fork, 08001009

Routt County

Chamber of Commerce Building, 1201 Lincoln Ave., Steamboat Springs, 08001010

LOUISIANA

St. Martin Parish

Voorhies, D.W. House, 410 Washington St., St. Martinsville, 08001011

MARYLAND

Washington County

Tolson's Chapel, 111 E. High St., Sharpsburg, 08001012

Worcester County

St. Paul's by-the-sea Protestant Episcopal Church, 302 N. Baltimore St., Ocean City, 08001013

MONTANA

Flathead County

Lake McDonald Lodge Coffee Shop, Lake McDonald Lodge Blvd., Lake McDonald, 08001014

Wheeler Camp (Boundary Increase), (Glacier National Park MRA (AD)) Lake McDonald, Apgar, 08001015

NORTH CAROLINA

Wake County

Purefoy-Chappell House and Outbuildings, (Wake County MPS) 1255 S. Main St., Wake Forest, 08001016

OREGON

Linn County

Albany Monteith Historic District (Boundary Increase), Elm St. SW to Calapooia and 19th Ave. SW to 11th and 12th Aves. SW, Albany, 08001017

VIRGINIA

Arlington County

Aurora Highlands Historic District, (Historic Residential Suburbs in the United States, 1830-1960 MPS) Bounded by 16th St. S., S. Eads St., 26th St. S., and S. Joyce St., Arlington, 08001018

[FR Doc. E8-22733 Filed 9-26-08; 8:45 am]

BILLING CODE 4312-51-P